DEPARTMENT OF TRANSPORTATION

Federal Aviation Administration

14 CFR Part 39

[Docket No. FAA-2013-0962; Directorate Identifier 2013-CE-028-AD; Amendment 39-17760; AD 2014-04-02]

RIN 2120-AA64

Airworthiness Directives; DORNIER LUFTFAHRT GmbH Airplanes

AGENCY: Federal Aviation Administration (FAA), Department of Transportation (DOT).

ACTION: Final rule.

SUMMARY: We are adopting a new airworthiness directive (AD) for DORNIER LUFTFAHRT GmbH Model 228-212 airplanes. This AD results from mandatory continuing airworthiness information (MCAI) issued by an aviation authority of another country to identify and correct an unsafe condition on an aviation product. The MCAI describes the unsafe condition as main landing gear axle failure caused by initial fatigue cracking and small pre-damage by corrosion. We are issuing this AD to require actions to address the unsafe condition on these products.

DATES: This AD is effective April 1, 2014.

The Director of the Federal Register approved the incorporation by reference of a certain publication listed in the AD as of April 1, 2014.

ADDRESSES: You may examine the AD docket on the Internet at http://www.regulations.gov by searching for and locating Docket No. FAA-2013-0962; or in person at Document Management Facility, U.S. Department of Transportation, Docket Operations, M-30, West Building Ground Floor, Room W12-140, 1200 New Jersey Avenue SE., Washington, DC 20590.

For service information identified in this AD, contact RUAG Aerospace Services GmbH, Dornier 228 Customer Support, P.O. Box 1253, 82231 Wessling, Germany; telephone: +49-(0)8153-30-2280; fax: +49-(0)8153-30-3030; Internet: http://www.ruag.com/en/Aviation/Aviation_Home. You may view this referenced service information at the FAA, Small Airplane Directorate, 901 Locust, Kansas City, Missouri 64106. For information on the availability of this material at the FAA, call (816) 329-4148.

FOR FURTHER INFORMATION CONTACT: Karl Schletzbaum, Aerospace Engineer, FAA, Small Airplane Directorate, 901 Locust, Room 301, Kansas City, Missouri 64106; telephone: (816) 329-4123; fax: (816) 329-4090; email: karl.schletzbaum@faa.gov.

SUPPLEMENTARY INFORMATION:

Discussion

We issued a notice of proposed rulemaking (NPRM) to amend 14 CFR part 39 to add an AD that would apply to DORNIER LUFTFAHRT GmbH Model 228-212 airplanes. That NPRM was published in the Federal Register on November 19, 2013 (78 FR 69320). That NPRM proposed to correct an unsafe condition for the specified products and was based on mandatory continuing airworthiness information (MCAI) originated by an aviation authority of another country. The MCAI states:

An event of a main landing gear (MLG) axle break during touchdown has been reported. The results of the subsequent technical investigation indicated that improper restoration of corrosion protection was the likely cause of the initial fatigue cracking.

This condition, if not detected and corrected, could lead to failure of the main landing gear axle, possibly resulting in a runway excursion with consequent damage to the aeroplane and injury to the occupants.

To address this potential unsafe condition, RUAG Aerospace Services GmbH issued Service Bulletin (SB) SB-228-300, Rev. 1.

For the reason described above, this AD requires a one-time inspection of the MLG axle and, depending on findings, accomplishment of applicable corrective actions.

The MCAI can be found in the AD docket on the Internet at: http://www.regulations.gov/#!documentDetail;D=FAA-2013-0962-0002.

Comments

We gave the public the opportunity to participate in developing this AD. We received no comments on the NPRM (78 FR 69320, November 19, 2013) or on the determination of the cost to the public.

Conclusion

We reviewed the relevant data and determined that air safety and the public interest require adopting the AD as proposed except for minor editorial changes. We have determined that these minor changes:

• Are consistent with the intent that was proposed in the NPRM (78 FR 69320, November 19, 2013) for correcting the unsafe condition; and

• Do not add any additional burden upon the public than was already proposed in the NPRM (78 FR 69320, November 19, 2013).

Costs of Compliance

We estimate that this AD would affect 2 products of U.S. registry. We also estimate that it would take about 160 work-hours per product to comply with the basic requirements of this AD. The average labor rate is $85 per work-hour.

Based on these figures, we estimate the cost of this AD on U.S. operators to be $27,200, or $13,600 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

Examining the AD Docket

You may examine the AD docket on the Internet at http://www.regulations.gov by searching for and locating it in Docket No. FAA-2013-0962; or in person at the Docket Management Facility between 9 a.m. and 5 p.m., Monday through Friday, except Federal holidays. The AD docket contains the NPRM (78 FR 69320, November 19, 2013), the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2014-04-02 Dornier Luftfahrt GmbH: Amendment 39-17760; Docket No. FAA-2013-0962; Directorate Identifier 2013-CE-028-AD.

(a) Effective Date

This airworthiness directive (AD) becomes effective April 1, 2014.

(b) Affected ADs

None.

(c) Applicability

This AD applies to DORNIER LUFTFAHRT GmbH Model 228-212 airplanes, all serial numbers, certificated in any category.

(d) Subject

Air Transport Association of America (ATA) Code 32: Landing Gear.

(e) Reason

This AD results from mandatory continuing airworthiness information (MCAI) originated by an aviation authority of another country to identify and correct an unsafe condition on an aviation product. The MCAI describes the unsafe condition as improper restoration of corrosion protection as the likely cause of initial fatigue cracking of the main landing gear (MLG) axle. We are issuing this AD to detect and correct possible corrosion and cracking of the MLG axle, which could lead to failure of the MLG axle resulting in a runway excursion with consequent damage to the airplane and injury to the occupants.

(f) Actions and Compliance

Unless already done, do the actions in paragraphs (f)(1) and (f)(2) of this AD:

(1) Inspect the MLG axle following the Accomplishment Instructions in RUAG Aerospace Services GmbH Dornier 228 Service Bulletin No. SB-228-300, Revision 1, dated April 25, 2013, at the time specified in paragraphs (f)(1)(i) or (f)(1)(ii) of this AD.

(i) If, as of April 1, 2014 (the effective date of this AD), the main landing gear (MLG) has 6,000 or more hours time-in-service (TIS) since new or is 10 years old or is more than 10 years old: Within the next 400 hours TIS after April 1, 2014 (the effective date of this AD) or within the next 6 months after April 1, 2014 (the effective date of this AD), whichever occurs first.

(ii) If, as of April 1, 2014 (the effective date of this AD), the MLG has less than 6,000 hours TIS since new or is between 5 to 10 years old: Before or upon accumulating 6,400 hours TIS or within 6 months after April 1, 2014 (the effective date of this AD), whichever occurs first.

(2) If, during the inspection required in paragraph (f)(1) of this AD, any discrepancies are found outside the limits specified in RUAG Aerospace Services GmbH Dornier 228 Service Bulletin No. SB-228-300, Revision 1, dated April 25, 2013, before further flight, make all necessary corrective actions following the Accomplishment Instructions in RUAG Aerospace Services GmbH Dornier 228 Service Bulletin No. SB-228-300, Revision 1, dated April 25, 2013.

(g) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4123; fax: (816) 329-4090; email: karl.schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, a federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 5 minutes per response, including the time for reviewing instructions, completing and reviewing the collection of information. All responses to this collection of information are mandatory. Comments concerning the accuracy of this burden and suggestions for reducing the burden should be directed to the FAA at: 800 Independence Ave. SW., Washington, DC 20591, Attn: Information Collection Clearance Officer, AES-200.

(h) Related Information

Refer to MCAI European Aviation Safety Agency (EASA) AD No.: 2013-0209, dated September 10, 2013, for related information. The MCAI can be found in the AD docket on the Internet at: http://www.regulations.gov/#!documentDetail;D=FAA-2013-0962-0002.

(i) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) RUAG Aerospace Services GmbH Dornier 228 Service Bulletin No. SB-228-300, Revision 1, dated April 25, 2013.

(ii) Reserved.

(3) For RUAG Aerospace Services GmbH service information identified in this AD, contact RUAG Aerospace Services GmbH, Dornier 228 Customer Support, P.O. Box 1253, 82231 Wessling, Germany; telephone: +49-(0)8153-30-2280; fax: +49-(0)8153-30-3030; Internet: http://www.ruag.com/en/Aviation/Aviation_Home.

(4) You may view this service information at the FAA, Small Airplane Directorate, 901 Locust, Kansas City, Missouri 64106. For information on the availability of this material at the FAA, call (816) 329-4148.

(5) You may view this service information that is incorporated by reference at the National Archives and Records Administration (NARA). For information on the availability of this material at NARA, call 202-741-6030, or go to: http://www.archives.gov/federal-register/cfr/ibr-locations.html.

Issued in Kansas City, Missouri, on February 10, 2014.
Steven W. Thompson,
Acting Manager, Small Airplane Directorate, Aircraft Certification Service.

[FR Doc. 2014-03424 Filed 2-24-14; 8:45 am]

BILLING CODE 4910-13-P